DEPARTMENT OF THE INTERIOR

National Park Service

[NPS-WASO-NAGPRA-NPS0039408; PPWOCRADN0-PCU00RP14.R50000]

Notice of Inventory Completion: Illinois State Museum, Springfield, IL

AGENCY: National Park Service, Interior.

ACTION: Notice.

SUMMARY: In accordance with the Native American Graves Protection and Repatriation Act (NAGPRA), the Illinois State Museum has completed an inventory of human remains and associated funerary objects and has determined that there is a cultural affiliation between the human remains and associated funerary objects and Indian Tribes or Native Hawaiian organizations in this notice.

DATES: Repatriation of the human remains and associated funerary objects in this notice may occur on or after April 16, 2025.

ADDRESSES: Dr. Brooke M. Morgan, Illinois State Museum Research & Collections Center, 1011 East Ash Street, Springfield, IL 62703, telephone (217) 785-8930, email Brooke.Morgan@illinois.gov.

SUPPLEMENTARY INFORMATION: This notice is published as part of the National Park Service's administrative responsibilities under NAGPRA. The determinations in this notice are the sole responsibility of the Illinois State Museum and additional information on the determinations in this notice, including the results of consultation, can be found in the inventory or related records. The National Park Service is not responsible for the determinations in this notice.

Abstract of Information Available

Human remains representing, at minimum, one individual have been identified. No associated funerary objects are present. These human remains were removed on an unknown date from the Oahe Village site (39HU2), Hughes County, SD. Remains are labeled in India ink “Oahe Village 1940” suggesting they may have been collected as early as that date. The remains were held at a South Dakota museum until the 1970s, when they were transferred to a private individual. The remains were donated to the Illinois State Museum in 2014. Oahe Village is a historic Arikara village dating to the Post-Contact Coalescent period (ca. A.D. 1650-1850). The Arikara are part of the Three Affiliated Tribes of the Fort Berthold Reservation, North Dakota.

Human remains representing, at minimum, one individual have been identified. No associated funerary objects are present. These human remains were removed on an unknown date from the Medicine Creek Village site (39LM2), Lyman County, SD. Remains are labeled in pencil “Me C” and a note accompanies the remains that reads “Medicine Creek State Survey, 1919” suggesting they may have been collected as early as that date. The remains were held at a South Dakota museum until the 1970s, when they were transferred to a private individual. The remains were donated to the Illinois State Museum in 2014. Medicine Creek Village dates to the Initial Middle Missouri, Initial Coalescent, and Extended Coalescent periods (ca. A.D. 950-1650) and was occupied by ancestors of contemporary Mandan and possibly Hidatsa people, whose descendants comprise the Three Affiliated Tribes of the Fort Berthold Reservation, North Dakota.

Human remains representing, at minimum, two individuals have been identified. The 244 associated funerary objects are two iron C-shaped bracelets, one cuprous C-shaped bracelet, nine cuprous coils, one sandstone fragment, three flintlock parts, one large blue glass faceted bead, 222 blue glass seed beads, one cut iron nail, one lot of leather fragments, one lock of human hair, one lot of wood fragments and limonite (yellow ochre), and one lot of metal container fragments. The human remains and funerary objects were removed from the Greenshield site (32OL17), Oliver County, ND, by Alfred Bowers in 1929 during his Beloit College-sponsored research. They transferred to the Illinois State Museum on an unknown date. The Greenshield site was a historic Arikara site occupied ca. 1785-1799. The Arikara are today part of the Three Affiliated Tribes of the Fort Berthold Reservation, North Dakota.

Cultural Affiliation

Based on the information available and the results of consultation, cultural affiliation is clearly identified by the information available about the human remains and associated funerary objects described in this notice.

Determinations

The Illinois State Museum has determined that:

• The human remains described in this notice represent the physical remains of four individuals of Native American ancestry.

• The 244 objects described in this notice are reasonably believed to have been placed intentionally with or near individual human remains at the time of death or later as part of the death rite or ceremony.

• There is a connection between the human remains and associated funerary objects described in this notice and the Three Affiliated Tribes of the Fort Berthold Reservation, North Dakota.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after April 16, 2025. If competing requests for repatriation are received, the Illinois State Museum must determine the most appropriate requestor prior to repatriation. Requests for joint repatriation of the human remains and associated funerary objects are considered a single request and not competing requests. The Illinois State Museum is responsible for sending a copy of this notice to the Indian Tribes and Native Hawaiian organizations identified in this notice.

Authority: Native American Graves Protection and Repatriation Act, 25 U.S.C. 3003, and the implementing regulations, 43 CFR 10.10.

Dated: January 23, 2025.
Melanie O'Brien,
Manager, National NAGPRA Program.

[FR Doc. 2025-04192 Filed 3-14-25; 8:45 am]

BILLING CODE 4312-52-P